DEPARTMENT OF TRANSPORTATION

Federal Aviation Administration

14 CFR Part 39

[Docket No. FAA-2010-0280; Directorate Identifier 2009-NM-259-AD]

RIN 2120-AA64

Airworthiness Directives; The Boeing Company Model 777-200LR and -300ER Series Airplanes

AGENCY: Federal Aviation Administration (FAA), DOT.

ACTION: Notice of proposed rulemaking (NPRM).

SUMMARY: We propose to adopt a new airworthiness directive (AD) for certain Model 777-200LR and -300ER series airplanes. This proposed AD would require doing a high frequency eddy current inspection for cracking of the keyway of the fuel tank access door cutout on the left and right wings between wing rib numbers 8 (wing station 387) and 9 (wing station 414.5), and related investigative and corrective actions if necessary. This proposed AD results from reports of cracks emanating from the keyway of the fuel tank access door cutout of the lower wing skin between wing rib numbers 8 and 9. We are proposing this AD to prevent loss of the lower wing skin load path, which could cause catastrophic structural failure of the wing.

DATES: We must receive comments on this proposed AD by May 17, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Duong Tran, Aerospace Engineer, Airframe Branch, ANM-120S, FAA, Seattle Aircraft Certification Office, 1601 Lind Avenue, SW., Renton, Washington 98057-3356; telephone (425) 917-6452; fax (425) 917-6590.

SUPPLEMENTARY INFORMATION:

Comments Invited

We invite you to send any written relevant data, views, or arguments about this proposed AD. Send your comments to an address listed under the ADDRESSES section. Include “Docket No. FAA-2010-0280; Directorate Identifier 2009-NM-259-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of cracks emanating from the keyway of the fuel tank access door cutout of the lower wing skin between wing rib numbers 8 and 9. The keyway is found on Model 777-200LR and 777-300ER airplanes at this location as the access door has a fuel measuring stick installed. The keyway is used to ensure that the fuel measuring stick is oriented properly in the access door cutout. The crack is the result of fatigue due to the position of the keyway. After the crack initiates, if it grows unchecked, it could result in the loss of the lower wing skin load path with catastrophic structural failure of the wing.

Relevant Service Information

We have reviewed Boeing Alert Service Bulletin 777-57A0069, dated November 5, 2009. The service bulletin describes procedures for doing a high frequency eddy current (HFEC) inspection for cracking at the keyway of the fuel tank access door cutout on the left and right wings between wing rib numbers 8 and 9, and corrective actions if necessary. Corrective actions include making an insurance cut of the keyway of the fuel tank access door cutout on the left and right wings; contacting Boeing for repair instructions and doing the repair; and changing the profile of the keyway of the fuel tank access door cutout on the left and right wings including doing a related investigative action. The related investigative action is an HFEC inspection of the machined areas for cracks.

FAA's Determination and Requirements of This Proposed AD

We are proposing this AD because we evaluated all relevant information and determined the unsafe condition described previously is likely to exist or develop in other products of the same type design. This proposed AD would require accomplishing the actions specified in the service information described previously, except as discussed under “Differences between the Proposed AD and Service Bulletin.”

Differences Between the Proposed AD and Service Bulletin

Boeing Alert Service Bulletin 777-57A0069, dated November 5, 2009, specifies to contact the manufacturer for instructions on how to repair certain conditions, but this proposed AD would require repairing those conditions in one of the following ways:

• Using a method that we approve; or

• Using data that meet the certification basis of the airplane, and that have been approved by the Boeing Commercial Airplanes Organization Designation Authorization (ODA) whom we have authorized to make those findings.

Other Rulemaking

The lower wing skins on The Boeing Company Model 737-900ER airplanes have fuel tank access door cutouts with the same configuration as those of the affected fuel tank access door cutouts on Model 777-200LR and 777-300ER airplanes. Therefore, Model 737-900ER airplanes may be subject to the identified unsafe condition. We are considering similar rulemaking related to the identified unsafe condition for certain Model 737-900ER airplanes.

Costs of Compliance

We estimate that this proposed AD would affect 16 airplanes of U.S. registry. We also estimate that it would take 2 work-hours per product to comply with this proposed AD. The average labor rate is $85 per work-hour. Based on these figures, we estimate the cost of this proposed AD to the U.S. operators to be $2,720, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0280; Directorate Identifier 2009-NM-259-AD.

Comments Due Date

(a) We must receive comments by May 17, 2010.

Affected ADs

(b) None.

Applicability

(c) This AD applies to all The Boeing Company Model 777-200LR and -300ER series airplanes, certificated in any category, as identified in Boeing Alert Service Bulletin 777-57A0069, dated November 5, 2009.

Subject

(d) Air Transport Association (ATA) of America Code 57: Wings.

Unsafe Condition

(e) This AD results from reports of cracks emanating from the keyway of the fuel tank access door cutout of the lower wing skin between wing rib numbers 8 and 9. The Federal Aviation Administration is issuing this AD to prevent loss of the lower wing skin load path, which could cause catastrophic structural failure of the wing.

Compliance

(f) You are responsible for having the actions required by this AD performed within the compliance times specified, unless the actions have already been done.

Inspection

(g) At the applicable time specified in paragraphs (g)(1) and (g)(2) of this AD, do a high frequency eddy current (HFEC) inspection for cracking of the keyway of the fuel tank access door cutout on the left and right wings between wing rib numbers 8 (wing station 387) and 9 (wing station 414.5), and do all applicable corrective actions including applicable related investigative action (an HFEC inspection for cracking of machined areas), in accordance with the Accomplishment Instructions of Boeing Alert Service Bulletin 777-57A0069, dated November 5, 2009, except as required by paragraph (h) of this AD. Do all applicable related investigative and corrective actions before further flight.

(1) For Group 1, Configuration 1 airplanes, as identified in Boeing Alert Service Bulletin 777-57A0069, dated November 5, 2009: Before the accumulation of 3,500 total flight cycles, or within 500 flight cycles after the effective date of this AD, whichever occurs later.

(2) For Group 1, Configuration 2 airplanes and Group 2 airplanes, as identified in Boeing Alert Service Bulletin 777-57A0069, dated November 5, 2009, on which a crack was found in the cutout keyway when the cutout keyway was changed: Within 1,125 days after the effective date of this AD.

Note 1: For Group 1, Configuration 2 airplanes and Group 2 airplanes, as identified in Boeing Alert Service Bulletin 777-57A0069, dated November 5, 2009, on which no crack was found in the cutout keyway when the cutout keyway was changed: No further action is required by this AD.

Exceptions to Service Bulletin

(h) If any cracking is found during any inspection required by this AD, and Boeing Alert Service Bulletin 777-57A0069, dated November 5, 2009, specifies to contact Boeing for appropriate action: Before further flight, repair the crack using a method approved in accordance with the procedures specified in paragraph (i) of this AD.

Alternative Methods of Compliance (AMOCs)

(i)(1) The Manager, Seattle Aircraft Certification Office (ACO), FAA, has the authority to approve AMOCs for this AD, if requested using the procedures found in 14 CFR 39.19. Send information to ATTN: Duong Tran, Aerospace Engineer, Airframe Branch, ANM-120S, FAA, Seattle ACO, 1601 Lind Avenue, SW., Renton, Washington 98057-3356; telephone (425) 917-6452; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Issued in Renton, Washington, on March 25, 2010.
Ali Bahrami,
Manager, Transport Airplane Directorate, Aircraft Certification Service.

[FR Doc. 2010-7458 Filed 4-1-10; 8:45 am]

BILLING CODE 4910-13-P